DEPARTMENT OF HEALTH AND HUMAN SERVICES

Solicitation of Nominations for Appointment to the Advisory Committee on Minority Health

AGENCY: Office of Minority Health, Office of the Secretary, Department of Health and Human Services.

ACTION: Notice.

SUMMARY: The Department of Health and Human Services (HHS), Office of Minority Health (OMH) is seeking nominations of qualified candidates to be considered for appointment as a member of the Advisory Committee on Minority Health (hereafter referred to as the “Committee or ACMH”). The Committee provides advice to the Deputy Assistant Secretary for Minority Health on the development of goals and specific program activities for improving the health and the quality of health care minorities receive and eliminating racial and ethnic health disparities consistent with the Public Health Service (PHS) Act.

DATES: Nominations for membership on the Committee must be received no later than 5:00 p.m. EST on March 4, 2021, at the address listed below.

ADDRESSES: All nominations should be emailed to CAPT Samuel Wu, Designated Federal Officer, Advisory Committee on Minority Health, Office of Minority Health, at SAMUEL.WU@hhs.gov and copy to OMH-ACMH@hhs.gov.

FOR FURTHER INFORMATION CONTACT: CAPT Samuel Wu, Designated Federal Officer, Advisory Committee on Minority Health, Office of Minority Health, Department of Health and Human Services. Phone: 240-453-6173; email: SAMUEL.WU@hhs.gov.

A copy of the ACMH charter and list of the current Committee membership can be obtained by contacting CAPT Wu or by accessing the website managed by OMH at www.minorityhealth.hhs.gov. Information about ACMH activities also can be found on the OMH website under the heading, About OMH, Committees and Working Groups.

SUPPLEMENTARY INFORMATION: Pursuant to Public Law 105-392, the HHS Secretary established the ACMH. The Committee provides advice to the Deputy Assistant Secretary for Minority Health on the development of goals and specific program activities for improving the health and the quality of health care minorities receive and eliminating racial and ethnic health disparities consistent with Section 1707 of PHS Act, 42 U.S.C. 300u—6. Management and support services for the ACMH are provided by OMH.

Nominations: The Committee is composed of 12 voting members. The Committee composition also can include non-voting ex officio members. This announcement is seeking nominations for voting members. Voting members of the Committee are appointed by the Secretary from individuals who are not officers or employees of the federal government and who have expertise regarding issues of minority health. To qualify for consideration of appointment to the Committee, an individual must possess demonstrated experience and expertise working on issues impacting the health of racial and ethnic minority populations. The Committee charter stipulates that health interests of the racial and ethnic minority groups shall be equally represented on the Committee: Hispanics/Latinos, African Americans, American Indians/Alaska Natives, and Asian Americans and Pacific Islanders (AAPI).

There will be six vacancies on the Committee by early 2021: Three vacancies representing American Indian/Alaska Native population, one vacancy representing Hispanic/Latino population, and two vacancies representing AAPI populations. OMH is particularly seeking nominations for individuals who can represent the health interests of these racial and ethnic minority groups.

Mandatory Professional/Technical Qualifications: Nominees must meet all of the following mandatory qualifications to be eligible for consideration:

(1) Expertise in minority health and racial and ethnic health disparities;

(2) Expertise in developing or contributing to the development of science-based or evidence- based health policies and/or programs. This expertise may include experience in the analysis, evaluation, and interpretation of federal/state health or regulatory policy;

(3) Involvement in national, state, regional, tribal, and/or local efforts to improve the health status or outcomes among racial and ethnic minority populations;

(4) Educational achievement, professional certification(s) in health-related fields (e.g., health professions, allied health, behavioral health, public health, health policy and health administration/management), and professional experience that will support the ability to give expert advice on issues related to improving minority health and eliminating racial and ethnic health disparities; and

(5) Expertise in population level health data for racial and ethnic minority groups (e.g., survey, administrative, and/or clinical data).

Desirable Qualifications:

(1) Knowledge and experience in health care systems, cultural and linguistic competency, social determinants of health, evidence-based research, data collection (e.g., federal, state, tribal, or local data collection), or health promotion and disease prevention; and

(2) Nationally recognized via peer-reviewed publications, professional awards, advanced credentials, or involvement in national professional organizations.

Requirements for Nomination Submission: Nominations should be typewritten (one nomination per nominator). Nomination package should include: (1) A letter of nomination that clearly states the name and affiliation of the nominee, the basis for the nomination (i.e., specific attributes which qualify the nominee for service in this capacity), and a statement from the nominee indicating a willingness to serve as a member of the Committee; (2) the nominee's contact information, including name, mailing address, telephone number, and email address; (3) the nominee's current curriculum vitae which should not exceed 10 pages; and (4) a summary of the nominee's experience and qualification relative to the mandatory professional and technical criteria listed above. Federal employees should not be nominated for consideration of appointment to this Committee.

Individuals selected for appointment to the Committee shall be invited to serve a four-year term. Committee members will receive a stipend for attending Committee meetings and conducting other business in the interest of the Committee, including per diem and reimbursement for travel expenses incurred.

The Department makes every effort to ensure that the membership of an HHS federal advisory committee is fairly balanced in terms of points of view represented to support the committee's function. Every effort is made to ensure a broad representation of individuals are considered for membership on HHS federal advisory committees, including considerations of geographic diversity, gender, racial and ethnic and minority groups, and people with disabilities. Appointment to this Committee shall be made without discrimination because of a person's race, color, religion, sex (including pregnancy), national origin, age, disability, or genetic information. Nominations must state that the nominee is willing to serve as a member of ACMH and appears to have no conflict of interest that would preclude membership. An ethics review is conducted for each selected nominee; therefore, individuals selected for nomination will be required to provide detailed information concerning such matters as financial holdings, consultancies, and research grants or contracts to permit evaluation of possible sources of conflict of interest.

Individuals selected to serve on the ACMH through the nomination process will be posted on the OMH website once selections have been made.

Authority: 42 U.S.C. 300u-6, Section 1707 of the Public Health Service Act, as amended. The Advisory Committee is governed by provisions of Public Law 92-463, as amended (5 U.S.C. Appendix 2), which sets forth standards for the formation and use of advisory committees.

Dated: November 24, 2020.
Samuel Wu,
CAPT, U.S. Public Health Service, Designated Federal Officer, Advisory Committee on Minority Health.

[FR Doc. 2020-26641 Filed 12-3-20; 8:45 am]

BILLING CODE 4150-29-P